ENVIRONMENTAL PROTECTION AGENCY

[ER-FRL-6617-7]

Environmental Impact Statements; Notice of Availability

Responsible Agency: Office of Federal Activities, General Information (202) 564-7167 or www.epa.gov/oeca/ofa.

Weekly Receipt of Environmental Impact Statements

Filed April 23, 2001 Through April 27, 2001

Pursuant to 40 CFR 1506.9

EIS No. 010136, Draft EIS, AFS, CO, Forest Development Trail (FDT) 1135 (Arapaho Ridge Trail), Forest Development Road (FDR) 711.1 and FDR 711.1A Motorized or Non-Motorized Determination and Trailhead Parking Areas Creation at both ends of the Trail, Routt National Forest, Jackson County, CO, Comment Period Ends: June 18, 2001, Contact: Charles T. Oliver (970) 723-8204.

EIS No. 010137, Draft EIS, AFS, ID, Meadow Face Stewardship Pilot Project, Implementation, Nez Perce National Forest, Clearwater Ranger District, Idaho County, ID, Comment Period Ends: June 18, 2001, Contact: Darcy Pederson (208) 983-1950.

EIS No. 010138, Final EIS, FHW, VA, VA-37 Highway Transportation Improvement, Construction from VA-37/I-81/US-11 (south) to VA-37/US-11 (north), Funding and COE Section 404 Permit, City of Winchester, Frederick County, VA, Wait Period Ends: June 04, 2001, Contact: Roberto Fonseca-Martinez (804) 775-3320.

EIS No. 010139, Final EIS, FHW, TX, TX-130 Construction, I-35 of Georgetown to I-10 near Seguin, Funding, COE Section 404 Permit, Williamson, Travis, Caldwell, Guadalupe Counties, TX, Wait Period Ends: June 04, 2001, Contact: Patrick Bauer (512) 536-5950.

EIS No. 010140, Final EIS, FRA, FL, GA, MD, PA, CA, LA, NV, Programmatic—Maglev Deployment Program, Development and Construction of an Operating Public Transportation System using Magnetic Levitation, Grants Issuance, CA, FL, GA, LA, MD, NV and PA, Wait Period Ends: June 04, 2001, Contact: David Valenstein (202) 493-6383.

EIS No. 010141, Final EIS, FHW, OH, OH-7 (LAW-7) Relocation, OH-7 and OH-527 to a point Northeast of Rome Township and OH-607 from East Huntington Bridge to an Interchange with proposed OH-7 and OH-775, Funding, Lawrence County, OH, Wait Period Ends: June 04, 2001, Contact: Andy Garnes (614) 280-6856.

EIS No. 010142, Draft EIS, AFS, UT, Uinta National Forest Revised Land and Resource Management Plan, Implementation, Juab, Sanpete, Tooele, Utah and Wasatch Counties, UT, Comment Period Ends: July 26, 2001, Contact: Peter W. Karp (801) 377-5780.

EIS No. 010143, Final EIS, JUS, TX, Immigration and Naturalization Service (INS) Detention Facility Construction in the Houston Area, TX, Wait Period Ends: June 04, 2001, Contact: Eric Verwers (817) 978-0202.

EIS No. 010144, Final EIS, AFS, MT, Discovery Ski Area Expansion, Implementation, Special-Use-Permit and COE Section 404 Permit, Beaverhead-Deerlodge National Forest, Pintler Ranger District, Rumsey Mountain, Granite County, MT, Wait Period Ends: June 04, 2001, Contact: Bob Gilman (406) 859-3211.

EIS No. 010145, Draft EIS, AFS, NY, Finger Lake National Forest, Oil and Gas Leasing, Exploration and Development, Approval and Authorization, Hector Ranger District, Seneca and Schuyler Counties, NY, Due: July 03, 2001, Contact: Martha Twarkins (607) 546-4470.

EIS No. 010146, Draft EIS, TVA, AL, TN, Guntersville Reservoir Land Management Plan, Implementation, Proposal to Update a 1983 Land Allocation Plan, Jackson and Marshall Counties, AL and Marion County, TN, Comment Period Ends: June 18, 2001, Contact: Harold M. Draper (865) 632-6889.

EIS No. 010147, Final EIS, USN, HI, Fort Kamehameha Outfall Replacement for Wastewater Treatment Plant, Navy Public Works Center, Pearl Harbor, HI, Wait Period Ends: June 04, 2001, Contact: Gary Kasaoke (808) 474-5909.

EIS No. 010148, Draft EIS, AFS, UT, Solitude Mountain Resort Master Development Plan Update (MDP), Implementation, Special-Use-Permit, Wasatch-Cache National Forest, Salt Lake County, UT, Comment Periods Ends: June 18, 2001, Contact: Steve Scheid (801) 733-2689.

EIS No. 010149, Final Supplement, NRC, Generic—License Renewal of Nuclear Plants, Arkansas Nuclear One, Unit 1, COE Section 10 and 404 Permits, Pope County, AR (NUREG-1437) , Wait Period Ends: June 04, 2001, Contact: Thomas J. Kenyon (301) 415-1120.

EIS No. 010150, Final EIS, AFS, MT, Spar and Lake Subunits Forest Health Project, Improvements, Kootenai National Forest, Three Rivers Ranger District, Lincoln County, MT, Wait Period Ends: June 04, 2001, Contact: Mike Donald (406) 295-4693.

Amended Notices

EIS No. 010023, Draft Supplement, NOA, AK, Groundfish Fishery Management Plan, Implementation, Bering Sea and Aleutian Islands, AK, Comment Period Ends: July 26, 2001, Contact: James W. Balsiger (907) 586-7221. Revision of FR Notice Published on 02/02/2001: CEQ Review Period Ending on 06/25/2001 has been extended to 07/25/2001.

EIS No. 010124, Final EIS, AFS, CA, Programmatic EIS—Ansel Adams, John Muir and Dinkey Lakes Wildernesses, Proposed New Management Direction, Amending the Land and Resource Management Plans for the Inyo and Sierra National Forests, Implementation, Inyo, Madera, Mono and Fresno Counties, CA, Wait Period Ends: May 21, 2001, Contact: Mary Beth Hennessy (760) 873-2448. Published FR 04-20-01 Correction to Title.

Dated: May 1, 2001.
Joseph C. Montgomery,
Director, NEPA Compliance Division, Office of Federal Activities.

[FR Doc. 01-11296 Filed 5-3-01; 8:45 am]

BILLING CODE 6560-50-U